DEPARTMENT OF STATE

[Public Notice: 10177]

60-Day Notice of Proposed Information Collection: Supplemental SIV Chief of Mission Application

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to January 8, 2018.

ADDRESSES: You may submit comments by any of the following methods:

• Web: Persons with access to the Internet may comment on this notice by going to www.Regulations.gov. You can search for the document by entering “Docket Number: DOS-2017-0041” in the Search field. Then click the “Comment Now” button and complete the comment form.

• Email: PRA_BurdenComments@state.gov.

You must include the DS form number (if applicable), information collection title, and the OMB control number in any correspondence.

FOR FURTHER INFORMATION CONTACT: Direct requests for additional information regarding the collection listed in this notice, including requests for copies of the proposed collection instrument and supporting documents, to S. Taylor at PRA_BurdenComments@state.gov.

SUPPLEMENTARY INFORMATION: • Title of Information Collection: Supplemental SIV Chief of Mission Application.

• OMB Control Number: 1405-0134.

• Type of Request: Revision of a Currently Approved Collection.

• Originating Office: Bureau of Consular Affairs, Visa Office (CA/VO/L/R).

• Form Number: DS-157.

• Respondents: Afghan Special Immigrant Visa Applicants.

• Estimated Number of Respondents: 8,700.

• Estimated Number of Responses: 8,700.

• Average Time per Response: 1 hour.

• Total Estimated Burden Time: 8,700 hours.

• Frequency: Once per respondent.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

Department of State uses Form DS-157 (Supplemental SIV Chief of Mission Application) in order to facilitate the Chief of Mission approval process required for special immigrant visa (SIV) applicants under section 602(b) of the Afghan Allies Protection Act of 2009 (Pub. L. 111-8). The information requested on the form is limited to that which the Chief of Mission uses to evaluate eligibility of SIV applicants. The DS-157 is only being used by Afghan SIV applicants for Chief of Mission approval.

Methodology

Applicants are required to complete the DS-157, along with other required documentation, and to submit their package to the appropriate SIV email address.

Edward Ramotowski,
Deputy Assistant Secretary, Bureau of Consular Affairs, Department of State.

[FR Doc. 2017-24207 Filed 11-6-17; 8:45 am]

BILLING CODE 4710-06-P